DEPARTMENT OF VETERANS AFFAIRS

Advisory Committee on Former Prisoners of War; Notice of Meeting

The Department of Veterans Affairs (VA) gives notice under the Federal Advisory Committee Act, 5 U.S.C., App. 2, that the Advisory Committee on Former Prisoners of War (FPOW) will meet on August 16-18, 2016 at 425 I Street NW., 4th Floor, Room 4E.400, Washington, DC. The meetings will be held from 9:00 a.m. to 4:00 p.m. on August 16-17 and 9:00 a.m. to 12:00 p.m. on August 18. All sessions are open to the public.

The purpose of the Committee is to advise the Secretary of VA on the administration of benefits under Title 38, United States Code, for Veterans who are former prisoners of war, and to make recommendations on the needs of such Veterans for compensation, health care, and rehabilitation.

On Tuesday, August 16, the Committee will meet in open session and will hear from its Chairman and the Secretary of VA. In addition, the VA Office of General Counsel will provide annual ethics training. On Wednesday, August 17, the Committee will host an open public forum and will receive briefings by representatives of Veterans Benefits Administration and Veterans Health Administration. On Thursday, August 18, the Committee will assemble in open session from 9:00 a.m. to 10:00 a.m. From 10:00 a.m. to 10:30 a.m., the Committee will convene a closed session in order to protect patient privacy as the Committee tours the VA Central Office. The Committee will reconvene at 10:30 a.m. to draft the beginning of their 2016 recommendations and decide the location of their next meeting.

Former Prisoners of War who wish to speak at the public forum are invited to submit a 1-2 page summary of their comments at the end of the meeting for inclusion in the official meeting record. Members of the public may also submit written statements for the Committee's review to Mr. Eric Robinson, Designated Federal Officer, Advisory Committee on Former Prisoners of War (and Program Analyst Compensation Service), Department of Veterans Affairs, 810 Vermont Avenue NW., (212), Washington, DC 20420, or via email at eric.robinson3@va.gov. Any member of the public seeking additional information should contact Mr. Robinson via email or call (202) 443-6016. Because the meeting will be held in a Government building, anyone attending must be prepared to show a valid photo ID. Please allow 15 minutes before the meeting begins for this process. Any member of the public wishing to attend the meeting or seeking additional information should contact Mr. Robinson.

Dated: June 14, 2016.
Jelessa Burney,
Federal Advisory Committee Management Officer.

[FR Doc. 2016-14369 Filed 6-16-16; 8:45 am]

BILLING CODE P